DEPARTMENT OF JUSTICE

Notice of Lodging of Consent Decree Under the Clean Air Act

Under 28 CFR 50.7, Notice is hereby given that on December 27, 2000, a proposed Consent Decree in United States and People of the State of Illinois v. Archer Daniels Midland Company, Civil Action No. 00-2338, was lodged with the United States District Court for the Central District of Illinois.

In this action the United States and the People of the State of Illinois seek civil penalties and injunctive relief against Archer Daniels Midland Company (“ADM”) pursuant to Section 113(b) of the Clean Air Act (“CAA”), 42 U.S.C. 7413(b) (1983), amended by, 42 U.S.C. 7413(b) (Supp. 1991), for alleged violations at ADM's Wet Corn Mill Plant located in Decatur, Illinois. Under the settlement, ADM will install venturi scrubbers at fiber feed dryers 5 and 6 at the Wet Corn Mill Plant which will reduce emissions of particulate matter (“PM”). In addition, ADM will pay a civil penalty of $1,463,500, to be equally shared between the United States and the State of Illinois.

The Department of Justice will receive for a period of thirty (30) days from the date of this publication comments relating to the Consent Decree. Comments should be addressed to the Assistant Attorney General, environment and Natural Resources Division, U.S. Department of Justice, P.O. Box 7611, Washington, DC 2044-7611, and should refer to United States and People of the State of Illinois v. Archer Daniels Midland Company, D.J. Ref. 90-5-2-1-2035/1.

The Consent Decree may be examined at the Office of the United States Attorney for the Central District of Illinois, 600 E. Monroe Street, Springfield, Illinois 62705, and at U.S. EPA Region 5, 77 West Jackson Blvd., Chicago, Illinois 60604. A copy of the Consent Decree may also be obtained by mail from the Consent Decree Library, P.O. Box 7611, U.S. Department of Justice, Washington, DC 20044-7611. In requesting a copy, please enclose a check in the amount of $8.50 (25 cents per page reproduction cost) payable to the Consent Decree Library.

Bruce Gelber,
Chief, Environmental Enforcement Section, Environment and Natural Resources Division.

[FR Doc. 01-925 Filed 1-10-01; 8:45 am]

BILLING CODE 4410-15-M